DEPARTMENT OF THE INTERIOR

Bureau of Land Management

[UT-923-01-1230-00]

Fair Market Value Meeting for the Flat Canyon Coal Tract, Sampete County, Utah

AGENCY: Bureau of Land Management.

ACTION: Notice of Public Meeting and Call for Public Comment on the Draft Environmental Impact Statement, Proposed Sale and Fair Market Value and Maximum Economic Recovery Consideration for Coal Lease Application UTU-77114.

SUMMARY: The Bureau of Land Management (BLM) held a public meeting on June 21, 2001 on the Draft Environmental Impact Statement, the proposed sale and requests public comment on the fair market value of certain coal resources it proposes to offer for competitive lease sale. The lands included in the delineated Federal coal lease tract (“Flat Canyon”) are located in Sanpete County, Utah approximately 10 miles southwest of Scofield, Utah on public and private land located in the Manti-La Sal National Forest are are described as follows:

T. 13 S., R. 6 E., SLM

Section 21, Lots 1-4, E2E2,

Section 28, Lots 1-8, S2NW, SW,

Section 23, E2, E2W2, NWNW, SWSW.

T. 14 S., R. 6 E., SLM

Section 2, Lots 1-4, S2N2, S2,

Section 5, Lots 1-4, S2N2, S2.

Non Federal Lands With Non Federal Coal

T. 13 S., R. 6 E., SLM

Section 29, E2SE, SENE, S2NENE,

Section 32, E2E2.

T. 14 S., R. 6 E., SLM

Section 3, W2, and portions to Electric Lake,

Section 8, N2N2,

Section 9, N2N2,

Section 10, N2N2 excluding Electric Lake.

Approximately 3792 acres

The tract has three potentially minable coal beds, the Lower O'Connor B, Lower O'Connor A and the Flat Canyon. The minable portions of the coal beds in this area are from 6 to 14 feet in thickness. The tract contains an estimated 36 million tons of recoverable high-volatile C bituminous coal. The coal quality in the seams on an “as received basis” is as follows: 12,700 Btu/lb., 5.95 percent moisture, 4.63 percent ash, 44.73 percent volatile matter, 44.69 percent fixed carbon and 0.44 percent sulfur. The public is invited to the meeting to make public and/or written comments on the environmental implications of leasing the proposed tract, and also to submit comments on the Fair Market Value and the Maximum Economic Recovery of the tract.

SUPPLEMENTARY INFORMATION: In accordance with Federal coal management regulations 43 CFR 3422 and 3425, a public meeting was held on the proposed sale to allow public comment on and discussion of the potential effects of mining and proposed lease. The meeting was advertised in two newspapers, the Sun Advocate located in Price, Utah, and the Pyramid located in Mount Pleasant, Utah. 43 CFR 3422 states that, No less than 30 days prior to the publication of the notice of sale, the Secretary shall solicit public comments on the Fair Market Value appraisal and Maximum Economic Recovery and on factors that may affect these two determinations. Proprietary data marked as confidential may be submitted to the Bureau of Land Management in response to this solicitation of public comments. Data so marked shall be treated in accordance with the laws and regulations governing the confidentially of such information. A copy of the comments submitted by the public on fair market value and maximum economic recovery, except those portions identified as proprietary by the author and meeting exemptions stated in the Freedom of Information Act, will be available for public inspection at the Bureau of Land Management, Utah State Office during regular business hours (8:00 a.m.-4:00 p.m.) Monday through Friday. Comments on the Fair Market Value and Maximum Economic Recovery should be sent to the Bureau of Land Management and should address, but not necessarily be limited to the following information.

1. The quality and quantity of the coal resource;

2. The mining methods or methods which would achieve maximum economic recovery of the coal, including specifications of seams to be mined and the most desirable timing and rate of production;

3. Whether this tract is likely to be mined as part of an existing mine and therefore should be evaluated on a realistic incremental basis, in relation to the existing mine to which it has the greatest value;

4. Whether the tract should be evaluated as part of a potential larger mining unit and evaluated as a portion of a new potential mine (i.e., a tract which does not in itself form a logical mining unit);

5. Restrictions to mining which may affect coal recovery;

6. The price that the mined coal would bring when sold;

7. Costs, including mining and reclamation, or producing the coal and the time of production.

8. The percentage rate at which anticipated income streams should be discounted, either with inflamation or in the absence of inflation, in which case the anticipated rate of inflation should be given;

9. Depreciation, depletion, amortization and other tax accounting factors;

10. The value of any surface estate where held privately;

11. Documented information on the terms and conditions of recent and similar coal land transactions in the lease sale area;

12. Any comparable sales data of similar coal lands; and

Coal quantities and the Fair Market Value of the coal developed by BLM may or may not change as a result of comments received from the public and changes in the market conditions between now and when final economic evaluations are completed. A notice of availability for the Flat Canyon Draft Environmental Impact Statement was published in the Federal Register on April 18, 2001. By virtue of this notice, all comments on the Draft Environmental Impact Statement should have been received by the Forest Supervisor of the Manti-La Sal National Forest, 599 West Price River Drive, Price, Utah 84501 by July 2, 2001.

DATES: The public meeting was held at the Flat Canyon Campground group site in Flat Canyon on State Highway 264, from 6:00 p.m.—8:00 p.m. on June 21, 2001. If the public wishes to have an additional meeting on the subject, please notify Mr. Stan Perkes, 801-539-4036 or a request in writing may be submitted to the Utah State Director, Bureau of Land Management, Utah State Office, Division of Lands and Minerals P.O. Box 45155, Salt Lake City, Utah 84145-0155, by July 24, 2001.

FOR FURTHER INFORMATION CONTACT: Written comments on the Fair Market Value and Maximum Economic Recovery must be received by August 24, 2001 and should be addressed to Stan Perkes, 801-539-4036, Bureau of Land Management, Utah State Office, Division of Lands and Minerals, P.O. Box 45155, Salt Lake City, Utah 84145-0155.

Dated: June 28, 2001.
Roger Zortman,
DSD, Division of Lands and Minerals.

[FR Doc. 01-18687 Filed 7-26-01; 8:45 am]

BILLING CODE 4310-DQ-M